DEPARTMENT OF COMMERCE

Census Bureau

Agency Information Collection Activities; Submission to the Office of Management and Budget (OMB) for Review and Approval; Comment Request; Current Population Survey, School Enrollment Supplement

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on December 26, 2024, during a 60-day comment period. This notice allows for an additional 30 days for public comments.

Agency: U.S. Census Bureau, Commerce.

Title: Current Population Survey, School Enrollment Supplement.

OMB Control Number: 0607-0464.

Form Number(s): There are no forms. All interviews are conducted using computers.

Type of Request: Regular submission, Request for Extension without Change of a currently approved collection.

Number of Respondents: 54,000.

Average Hours per Response: 3 minutes.

Burden Hours: 2,700.

Needs and Uses: These data provide basic information on the school enrollment status of various segments of the population necessary as background for policy formulation and implementation. This supplement is the only annual source of data on public/private elementary and secondary school enrollment, as well as the characteristics of private school students and their families. As part of the Federal Government's efforts to collect data and provide timely information to government entities for policymaking decisions, this supplement provides national trends in enrollment and progress in school. Consequently, this supplement is the only source of historical data at the national level on the age distribution and family characteristics of college students, and on the demographic characteristics of pre-primary school enrollment.

Affected Public: Individuals or households.

Frequency: Annually.

Respondent's Obligation: Voluntary.

Legal Authority: Title 13, United States Code, sections 8(b), 141, and 182 authorize the Census Bureau and title 29, United States Code, section 2 authorizes the Bureau of Labor Statistics to collect this information. The Education Sciences Reform Act of 2002 (ESRA, title 20, United States Code, section 9543) authorizes the National Center for Education Statistics to collect this information.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0464.

Sheleen Dumas,
Departmental PRA Compliance Officer, Office of the Under Secretary for Economic Affairs, Commerce Department.

[FR Doc. 2025-09265 Filed 5-22-25; 8:45 am]

BILLING CODE 3510-07-P